DEPARTMENT OF TRANSPORTATION

National Highway Traffic Safety Administration

[NHTSA Docket No. NHTSA-2012-0027]

Appointment/Reappointment to the National Emergency Medical Services Advisory Council (NEMSAC)

AGENCY: National Highway Traffic Safety Administration (NHTSA), U.S. Department of Transportation (DOT).

ACTION: Notice of Request for Applicants for Appointment/Reappointment to the National Emergency Medical Services Advisory Council (NEMSAC).

SUMMARY: NHTSA is soliciting applications for appointment or reappointment to DOT's NEMSAC. The purpose of NEMSAC is to serve as a nationally recognized council of emergency medical services (EMS) representatives and consumers to provide advice and recommendations regarding EMS to DOT and its modal administration, NHTSA, and through NHTSA to the Federal Interagency Committee on EMS (FICEMS).

DATES: Applications for membership (including resume or curriculum vitae (CV), letters of recommendation, and a statement identifying the EMS sector or discipline that the applicant seeks to represent) should reach NHTSA at the address below on or before 5 p.m. EST, on Friday, March 30, 2012.

ADDRESSES: If you wish to apply for membership, your application should be submitted by:

• Email: NEMSAC@dot.gov.

• Fax: (202) 366-7149.

• Mail: Use only overnight mail such as UPS or FedEx to: U.S. Department of Transportation, National Highway Traffic Safety Administration, Office of Emergency Medical Services, Attn: NEMSAC, 1200 New Jersey Avenue SE., NTI-140, Washington, DC 20590.

FOR FURTHER INFORMATION CONTACT: The Designated Federal Officer, Drew Dawson, Director, Office of Emergency Medical Services, telephone (202) 366-9966; email drew.dawson@dot.gov, or Noah Smith at (202) 366-5030 or via email at noah.smith@dot.gov.

SUPPLEMENTARY INFORMATION: NEMSAC is an advisory council established by DOT in accordance with the provisions of the Federal Advisory Committee Act (FACA), Public Law 92-463, as amended (5 U.S.C. App.) and DOT Order 1120.3B. NEMSAC provides information, advice, and recommendations to the Secretary via the Administrator of NHTSA, and through NHTSA to FICEMS on matters relating to all aspects of development and implementation of EMS.

In accordance with the NEMSAC Charter, a copy of which is available at www.EMS.gov/nemsac, members should represent a cross-section of the diverse agencies, organizations, and individuals involved in EMS activities and programs in the U.S. NEMSAC consists of not more than 26 members, each of whom shall be appointed by the Secretary. Members serve in a “representatives” capacity on NEMSAC and not as Special Government Employees. Pursuant to the charter, 24 of these members must represent the perspectives of particular sectors of the EMS community. Members will be selected for their individual expertise and to reflect a balanced representation of interests from across the EMS community, but no member will represent a specific organization.

To the extent practical, the final council membership shall assure representation from the following sectors of the EMS community:

• Volunteer EMS

• Fire-based (career) EMS

• Private (career non-fire) EMS

• Hospital-based EMS

• Tribal EMS

• Air Medical EMS

• Local EMS service directors/administrators

• EMS Medical Directors

• Emergency Physicians

• Trauma Surgeons

• Pediatric Emergency Physicians

• State EMS Directors

• State Highway Safety Directors

• EMS Educators

• Public Safety Call-taker/Dispatcher (911)

• EMS Data Managers

• EMS Researchers

• Emergency Nurses

• Hospital Administration

• Public Health

• Emergency Management

• State Homeland Security Director

• Consumers (not directly affiliated with an EMS or healthcare organization)

• State or local legislative bodies (e.g. city/county councils; state legislatures)

Qualified individuals interested in serving on the NEMSAC are invited to apply for appointment by submitting a resume or CV along with letters of recommendation to NHTSA at the addresses listed above by March 30, 2012. Each applicant must identify the EMS sector or discipline that he or she seeks to represent. Current NEMSAC members whose terms are ending should notify the Designated Federal Officer of their interest in reappointment in lieu of submitting a new application, and should provide an updated resume or CV and a restatement of the current sector they represent by March 30, 2012.

The NEMSAC meets in plenary session approximately once per quarter. Members serve without compensation from the Federal Government; however, pursuant to the terms of the Charter, they receive travel reimbursement and per diem in accordance with applicable Federal Travel Regulations.

Issued on: February 28, 2012.
Jeffrey P. Michael,
Associate Administrator for Research and Program Development.

[FR Doc. 2012-5088 Filed 3-1-12; 8:45 am]

BILLING CODE 4910-59-P